DEPARTMENT OF AGRICULTURE

Natural Resources Conservation Service

[Docket No. NRCS-2016-006]

Notice of Meeting of the Agricultural Air Quality Task Force

AGENCY: Natural Resources Conservation Service (NRCS), USDA.

ACTION: Notice of meeting.

SUMMARY: The U.S. Department of Agriculture (USDA) Agricultural Air Quality Task Force (AAQTF) will meet for discussions on critical air quality issues relating to agriculture. Special emphasis will be placed on obtaining a greater understanding about the relationship between agricultural production and air quality. The meeting is open to the public. A draft agenda is included in this notice.

DATES: The meeting will convene at 8:00 a.m. PDT on Thursday and Friday September 8-9, 2016. A public comment period will be held on the morning of September 9, 2016. The meeting will end at approximately noon on September 9, 2016.

ADDRESSES: The meeting will be held at the Holiday Inn Sacramento—Capitol Plaza, 300 J Street, Sacramento, California 95814.

FOR FURTHER INFORMATION CONTACT: Questions and comments should be directed to Dr. Greg Johnson, Designated Federal Official, USDA, NRCS, 2901 East Gate City Boulevard, Suite 2100, Greensboro, North Carolina 27401; telephone: (336) 370-3352; fax: (336) 273-8132; email: greg.johnson@por.usda.gov.

SUPPLEMENTARY INFORMATION: Notice of this meeting is given under the Federal Advisory Committee Act, 5 U.S.C. App. 2. Additional information concerning AAQTF, including revised agendas for the September 8-9, 2016, meeting that occurs after this Federal Register Notice is published, may be viewed at: www.nrcs.usda.gov/wps/portal/nrcs/detail/national/air/taskforce.

Procedural: This meeting is open to the public. On September 9, 2016, the public will have an opportunity to provide up to 5 minutes of input to the AAQTF.

Information on Services for Individuals With Disabilities: For information on facilities or services for individuals with disabilities or to request special assistance at the meeting, please contact Greg Johnson (contact information listed above). USDA prohibits discrimination in its programs and activities on the basis of race, color, national origin, gender, religion, age, sexual orientation, or disability. Additionally, discrimination on the basis of political beliefs and marital or family status is also prohibited by statutes enforced by USDA. (Not all prohibited bases apply to all programs.) Persons with disabilities who require alternate means for communication of program information (Braille, large print, audio tape, etc.) should contact the USDA's Target Center at (202) 720-2000 (voice and TDD).

Signed August 12, 2016, in Washington, DC.
Jason A. Weller,
Chief.

Draft Agenda

AAQTF Meeting

September 8-9, 2016, Sacramento, California

A. Welcome Remarks and Introductions

B. USDA and California Air Resources Board Leadership Remarks

C. Particulate Matter Research

D. USDA Climate Change Building Blocks, Greenhouse Gas Mitigation, and U.S. Agriculture

E. Update on Agricultural Air Quality Regulatory Issues at the Environmental Protection Agency

F. Updates from USDA Agencies (Forest Service, NRCS, National Institute of Food and Agriculture, and Agricultural Research Service)

G. AAQTF Subcommittee Formation and Break-Out Sessions

H. Reactive Nitrogen Guest Speaker

I. Public Input (Note: Individual presentations will be limited to 5 minutes.)

* Please note that the timing of events in the agenda is subject to change to accommodate changing schedules of expected speakers and or extended discussions.

[FR Doc. 2016-19872 Filed 8-19-16; 8:45 am]

BILLING CODE 3410-16-P